COMMISSION ON CIVIL RIGHTS

Agency Information Collection Activities; Proposals, Submissions, and Approvals: Qualification Information for Candidates to Advisory Committees

AGENCY: U.S. Commission on Civil Rights.

ACTION: Notice.

SUMMARY: The U.S. Commission on Civil Rights (“Commission” or “USCCR”) is announcing an opportunity for public comment on the proposed collection of qualification information for advisory committee candidates by the agency. Under the Paperwork Reduction Act (“PRA”), Federal agencies are required to publish notice in the Federal Register concerning each proposed collection of information, and to allow an additional 30 days for public comment.

DATES: Comments must be received on or before April 24, 2023.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Sheryl Cozart, Senior Attorney-Advisor, Office of the General Counsel, Office of the General Counsel, U.S. Commission on Civil Rights, 1331 Pennsylvania Avenue NW, Suite 1150, Washington, DC 20425; phone: 202-839-7255; email: sccozart@usccr.gov.

SUPPLEMENTARY INFORMATION: Under the PRA, 44 U.S.C. 3501 et seq., Federal agencies must issue two notices seeking public comment on information collection activities before OMB may approve paperwork packages. On January 11, 2023, USCCR published a 60-day notice (88 FR 1557) in the Federal Register for public comment. USCCR received no comments after issuing this 60-day notice. Accordingly, USCCR announces that these information collection activities have been again evaluated and certified under 5 CFR 1320.5(a) and forwarded to OMB for review and approval pursuant to 5 CFR 1320.12(c). Before OMB decides whether to approve these proposed collections of information, it must provide 30 days for public comment. 44 U.S.C. 3507(b); 5 CFR 1320.12(d). Federal law requires OMB to approve or disapprove paperwork packages between 30 and 60 days after the 30-day notice is published. 44 U.S.C. 3507 (b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICRs) and the expected burden. The requirements are being submitted for clearance by OMB as required by the PRA. This is a request for a new OMB control number.

Title: “Qualification Information for Candidates to Advisory Committees.”

Abstract: The Commission studies civil rights issues and subsequently publishes reports with recommendations to inform the President, Congress, and the public. The USCCR's Advisory Committees were created to provide input and make recommendations to the Commission concerning discrimination and denial of equal protection of law, the right to vote, and related civil rights issues. The Commission was established by the Civil Rights Act of 1957, Public Law 815-315, and subsequently modified in the Civil Rights Commission Amendments Act of 1994, 42 U.S.C. 1975a. These laws direct the Commission to establish Advisory Committees for each state, the District of Columbia, and five U.S. territories. These non-discretionary, statutory Advisory Committees are subject to the Federal Advisory Committee Act (FACA), Public Law 92-463 codified as 5 U.S.C. app. 2.

As noted above, the 56 Advisory Committees advise the Commission on civil rights issues that the Committees choose to evaluate. The Commission may also ask Advisory Committees to take up a civil rights topic in support of a Commission investigation. After a Committee's report is submitted, the Commission may invite the Advisory Committee Chair to discuss the report, including the findings and recommendations, at regularly scheduled Commission business meetings. The Commission may notify the U.S. Congressional delegation for the particular locale that the advisory committee within their jurisdiction has published a report. In addition, the Commission may distribute Committee reports to the federal, state, and local bodies that are identified in the Committee report. Lastly, individual Commissioners often attend the Advisory Committee meetings, which are open to the general public.

The USCCR identifies candidates for advisory committee membership through a variety of methods, including, but not limited to, public requests for nominations; recommendations from existing advisory committee members; consultations with knowledgeable persons outside the USSCR (academia, non-profits, other state or federal government agencies, academia, etc.); and Commissioners' and USCCR staff's professional knowledge of those experienced in civil rights. Following the identification process and submission of applications, the USCCR develops a list of proposed members with the relevant points of view needed to ensure membership balance. The USCCR Commissioners then vote to appoint individuals to serve four-year terms as Advisory Committee Members. Advisory Committee Members are generally classified as Representatives. Representatives provide the viewpoints of entities or recognizable groups and are expected to potentially represent a particular and known bias or perspective.

The collection of information is necessary to support the USCCR Advisory Committees by placing qualified individuals on them as members. Pursuant to the FACA, an agency must ensure that a committee is balanced and diverse with respect to the viewpoints represented and the functions to be performed by that committee. Consistent with this, in order to select individuals for potential membership on an advisory committee, the USCCR must determine that potential members are qualified to serve on an advisory committee and that the viewpoints are properly balanced on the committee.

USCCR staff would use the information collected in the applications to determine that members come from the rich and diverse backgrounds of all of the United States and its Territories that USCCR wishes to have represented on its Advisory Committees, to determine the civil rights experience and expertise of potential advisory committee members, and to ensure that the membership on a committee is balanced.

The USCCR seeks to collect the following information in its applications: Information that supports an individual's state or territory residency requirements, civil rights experience and expertise to serve on an advisory committee, including a letter discussing their qualifications, resume or curriculum vitae, and/or other similar biographical information documents such as name and address and social media handles. Additionally, the USCCR seeks to collect information that ensures membership balance (e.g., represented viewpoint category), and that potential members broadly represent the demographics and/or viewpoints of the United States and its Territories' varied and diverse backgrounds including, but not limited to, education, occupation, political affiliation and/or ideology, race/ethnicity, national origin, gender, sexual orientation, disability status, age, religion, and veteran status.

With respect to the collection of information, the USCCR invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

Burden Statement: The respondent burden for this collection is estimated to be as follows for each vacant Advisory Committee:

Estimated Number of Respondents: 22.

Estimated Average Burden Hours per Respondent: 1 hour or less.

Estimated Total Annual Burden Hours: 22 hours or less per each vacant Committee.

Frequency of Collection: Only as needed to fill vacancies, however advisory committee members serve for four (4) years and once members, would not be required to resubmit this information during the term of their membership.

There are no capital costs or operating and maintenance costs associated with this collection.

(Authority: 44 U.S.C. 3501 et seq.)

Dated: March 23, 2023.
David Ganz,
General Counsel, USCCR.

[FR Doc. 2023-06384 Filed 3-27-23; 8:45 am]

BILLING CODE 6335-01-P